DEPARTMENT OF ENERGY

[FE Docket No. 98-59-NG, et al.]

Office of Fossil Energy; Mirant Americas Energy Marketing, L.P. (Formerly Southern Company Energy Marketing L.P.), et al. Orders Granting and Amending Authority to Import and Export Natural Gas, Including Liquefied Natural Gas

AGENCY: Office of Fossil Energy, DOE.

ACTION: Notice of orders.

SUMMARY: The Office of Fossil Energy (FE) of the Department of Energy gives notice that during May 2001, it issued Orders granting and amending authority to import and export natural gas, including liquefied natural gas. These Orders are summarized in the attached appendix and may be found on the FE web site at http://www.fe.doe.gov, or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on June 7, 2001.
Clifford P. Tomaszewski,
Manager, Natural Gas Regulation, Office of Natural Gas & Petroleum Import & Export Activities, Office of Fossil Energy.

Appendix_Orders Granting and Amending Import/Export Authorizations

Order No. | Date issued | Importer/Exporter FE Docket No. | Import volume | Export volume | Comments
1408-A | 05-14-01 | Mirant Americas Energy Marketing, L.P. (Formerly Southern Company Energy Marketing L.P.)—98-59-NG |  |  | Name change on blanket authority.
1679 | 05-14-01 | Cinergy Marketing & Trading, LLC (Formerly Producers Energy Marketing, LLC)—01-16-NG | 730 Bcf |  | Import and export a combined total from and to Canada, beginning June 1, 2001, and extending through May 31, 2003.
1680 | 05-17-01 | Aquila Canada Capital and Trade Corp.—01-20-NG | 200 Bcf |  | Import from Canada over a two-year term beginning on the date of first delivery.
1681 | 05-21-01 | Aquila Capital and Trade Ltd.—01-19-NG | 200 Bcf |  | Import from Canada over a two-year term beginning on the date of first delivery.
1682 | 05-21-01 | Aquila Canada Capital and Trade Corp.—01-18-NG |  | 200 Bcf | Export to Canada over a two-year term beginning on the date of first delivery.
1683 | 05-21-01 | Aquila Capital and Trade Ltd.—01-17-NG |  | 200 Bcf | Export to Canada over a two-year term beginning on the date of first delivery.
1684 | 05-23-01 | Conoco, Inc.—01-23-LNG | 50 Bcf |  | Import liquefied natural gas from various international sources over a two-year term beginning on the date of first delivery.
1685 | 05-24-01 | Tractebel Energy Marketing, Inc.—-1-21-LNG | 100 Bcf |  | Import liquefied natural gas from various international sources over a two-year term beginning on the date of first delivery.
1643-A | 05-24-01 | Cannat Energy Inc. (Formerly Sceptre Energy Inc.)—00-70-NG |  |  | Name change on blanket authority.
1686 | 05-30-01 | CMS Marketing, Services and Trading Company—01-24-LNG | 440 Bcf |  | Import liquefied natural gas from various international sources over a two-year term beginning on the date of first delivery.
1687 | 05-30-01 | Pacificorp Power Marketing, Inc.—01-22-NG | 58.4 Bcf |  | Import and export a combined total from and to Canada, over a two-year term beginning on the date of first delivery.

[FR Doc. 01-14876 Filed 6-12-01; 8:45 am]

BILLING CODE 6450-01-P